SMALL BUSINESS ADMINISTRATION

Revocation of License of Small Business Investment Company

Pursuant to the authority granted to the United States Small Business Administration by the Final Order of the United States District Court for the District of Massachusetts, dated July 21, 2004, in Case No. oocv10652 RGS, the United States Small Business Administration hereby revokes the license of The Argonauts MESBIC Corporation, a Massachusetts corporation, to function as a small business investment company under the Small Business Investment Company License No. 01/01-5343 issued to The Argonauts MESBIC Corporation on June 17, 1988 and said license is hereby declared null and void as of September 21, 2004.

Dated: September 24, 2004.
United States Small Business Administration.
Jeffrey D. Pierson,
Associate Administrator for Investment.

[FR Doc. 04-21998 Filed 9-29-04; 8:45 am]

BILLING CODE 8025-01-P